DEPARTMENT OF HEALTH AND HUMAN SERVICES

Administration for Children and Families

Proposed Information Collection Activity; Head Start Program Performance Standard (Office of Management and Budget #: 0970-0148)

AGENCY: Office of Head Start, Administration for Children and Families, Department of Health and Human Services.

ACTION: Request for public comments.

SUMMARY: The Administration for Children and Families (ACF) is requesting a 3-year extension of the information collection requirements under the Head Start Program Performance Standards (Office of Management and Budget (OMB) #0970-0148, expiration August 31, 2024). At this time, there are no changes to the approved recordkeeping requirements under this OMB number. However, a Notice of Proposed Rulemaking on Supporting the Head Start Workforce and Consistent Quality Programming was published and if any of the proposed changes are made final, this information collection will be updated to reflect those changes.

DATES: Comments due within 60 days of publication. In compliance with the requirements of the Paperwork Reduction Act of 1995, ACF is soliciting public comment on the specific aspects of the information collection described above.

ADDRESSES: You can obtain copies of the proposed collection of information and submit comments by emailing infocollection@acf.hhs.gov. Identify all requests by the title of the information collection.

SUPPLEMENTARY INFORMATION:

Description: Section 641A of the Head Start Act, 42 U.S.C. 9836A, directs the U.S. Department of Health and Human Services (HHS) to develop “scientifically based and developmentally appropriate education performance standards related to school readiness” and “ensure that any such revisions in the standards do not result in the elimination of or any reduction in quality, scope, or types of health, educational, parental involvement, nutritional, social, or other services.” This information collection is entirely record keeping and does not contain any standardized instruments to provide flexibility for local programs. These records are intended to act as a tool for grantees and delegate agencies to be used in their day-to-day operations. For example, this includes the requirement that programs maintain a waiting list of eligible families. There are currently no changes to the record keeping requirements. However, if any proposed changes from the Notice of Proposed Rulemaking on Supporting the Head Start Workforce and Consistent Quality Programming (88 FR 80818), this information collection will be updated to reflect those changes.

Respondents: Head Start grant recipients. Depending on the standard, the calculated burden hours is based on the individual enrollee, family, grant, program, or staff. In a few cases, only a proportion of one of these may apply.

Annual Burden Estimates
Instrument | Annual number of respondents | Annual number of responses per respondent | Average annual burden hours per response | Annual burden hours
Impasse procedures | 2,900 | 1 | 0.7 | 2,030
Documenting eligibility | 260,000 | 1 | 0.166 | 43,160
Maintain a waiting list | 2,900 | 1 | 2 | 5,800
Track attendance | 2,900 | 1 | 5 | 14,500
Written plan to support program participation following temporary suspension | 150 | 1 | 1 | 150
Child developmental screenings and assessment | 800,000 | 1 | 1 | 800,000
Dual Language Learners Assessment | 269,000 | 1 | 2 | 538,000
Obtain child health status, source of health care, and nutritional health needs | 800,000 | 1 | 0.66 | 528,000
Documents lack of available funds for assessment and treatment | 2,900 | 1 | 0.5 | 1,450
Maintaining records on the administration of medication | 2,900 | 1 | 0.5 | 1,450
Joint agreements, procedures, or contracts with community organizations and memorandum of understanding with local entity | 2,900 | 1 | 0.166 | 481
Criminal record checks | 74,000 | 1 | 0.33 | 24,420
Ensure staff initial health examination and periodic re-examination | 25,000 | 1 | 0.25 | 6,250
Volunteer screening for tuberculosis | 2,900 | 1 | 0.166 | 481
Maintain automated accounting and recordkeeping system and collect and use data to monitor program performance and continuous improvement, and conduct a self-assessment and community assessment | 2,900 | 1 | 79 | 229,100
Quality Improvement Plan | 100 | 1 | 10 | 1,000
Submit proof of coverage | 2,900 | 1 | 0.166 | 481
Parental Consent, Annual Notice, and Recordkeeping of PII Disclosure | 723,000 | 1 | 0.33 | 238,590
Applications for the purchase, construction, or renovation of facilities; record retention and submission of documents on facilities | 250 | 1 | 40 | 10,000
Waiver request | 200 | 1 | 1 | 200
Up-to-date child rosters and lists of adults each child is authorized to be released to are maintained | 2,900 | 1 | 2 | 5,800
Agencies required to compete will have to complete an application for each grant competed | 75 | 1 | 60 | 4,500
Each Head Start or Early Head Start agency wishing to be renewed for 5 years without competition shall request that status from ACF | 400 | 1 | 0.25 | 100
Updating program and personnel policies and procedures that promote implementation of Head Start standards | 2,900 | 1 | 7 | 20,300

Estimated Total Annual Burden Hours: 2,476,243.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Section 641A of the Head Start Act, 42 U.S.C. 9836A.

Mary C. Jones,
ACF/OPRE Certifying Officer.

[FR Doc. 2024-10682 Filed 5-15-24; 8:45 am]

BILLING CODE 4184-40-P